DEPARTMENT OF ENERGY

Notice of Intent To Grant Partially Exclusive License Between the National Energy Technology Laboratory and Envired Systems

AGENCY: National Energy Technology Laboratory, Department of Energy.

ACTION: Notice of intent to grant partially exclusive license.

SUMMARY: The National Energy Technology Laboratory (NETL), on behalf of the Department of Energy (DOE), hereby gives notice of its intent to grant a partially exclusive license to practice the inventions described and claimed in U.S. Patent No 6,908,497, issued June 21, 2005, titled “Solid sorbents for removal of carbon dioxide from gas streams at low temperatures,” to Envired Systems, having its principal place of business in Newton, MA. The inventions are owned by United States of America, as represented by DOE.

DATES: Written comments or nonexclusive license applications are to be received at the address listed below no later than August 10, 2011. Objections submitted in response to this notice will not be made available to the public for inspection and, to the extent permitted by law, will not be released under the Freedom of Information Act, 5 U.S.C. 552.

ADDRESSES: Objections relating to the prospective exclusive license may be submitted to the Office of Chief Counsel, National Energy Technology Laboratory, 3610 Collins Ferry Rd., P.O. Box 880, Morgantown, WV 26506 or via facsimile at (412) 386-5949. Comments relating to the prospective exclusive license may be submitted to the Technology Transfer Program, U.S. Department of Energy, National Energy Technology Laboratory, 626 Cochrans Mills Rd., P.O. Box 10940, Pittsburgh, PA 15236 or via facsimile at (412) 386-5920.

FOR FURTHER INFORMATION CONTACT: Jessica Sosenko, Technology Transfer Program Manager, U.S. Department of Energy, National Energy Technology Laboratory, 626 Cochrans Mills Rd., P.O. Box 10940, Pittsburgh, PA 15236; Telephone (412) 386-7417; E-mail: jessica.sosenko@netl.doe.gov.

SUPPLEMENTARY INFORMATION: Pursuant to 35 U.S.C. 209(c), DOE is authorized to grant exclusive or partially exclusive licenses in inventions managed by DOE on behalf of the United States where it determines that, among other things, the desired practical application of the invention has not been achieved, or is not likely to be expeditiously achieved, under a nonexclusive license. The statute and implementing regulations (37 CFR part 404) require that this determination be made after public notice and opportunity for filing written objections.

Envired Systems, a new small business, has applied for a partially exclusive license to practice the inventions and has a plan for commercialization of the invention. DOE intends to grant the license, upon a final determination in accordance with 35 U.S.C. 209(c), unless within 15 days of publication of this notice the NETL Technology Transfer Manager (contact information listed above), receives in writing any of the following, with supporting documentation:

(i) A statement from any person setting forth reasons why it would not be in the best interest of the United States to grant the proposed license; or

(ii) An application for a nonexclusive license to the invention in which the applicant states that it already has brought the invention to practical application or is likely to expeditiously bring the invention to practical application.

The proposed license will be partially exclusive, subject to a license and other rights retained by the United States, and subject to a negotiated royalty. The exclusive fields of use are: Indoor air and human occupied space, including all heating, ventilation and air-conditioning applications; and indoor air quality applications, including all air quality and air treatment in buildings, houses, shelters, vehicles, vessels, aircraft, storage, refrigeration facilities, greenhouses, and the like. DOE will review all timely written responses to this notice, and will grant the license if, after expiration of the 15-day notice period and consideration of any written responses to this notice, it determines in accordance with 35 U.S.C. 209(c) that the license is in the public interest.

This notice is issued in accordance with 35 U.S.C. 209(c)(1) and 37 CFR 404.7(a)(1)(i).

Dated: July 22, 2011.
Scott Klara,
Deputy Director, National Energy Technology Laboratory.

[FR Doc. 2011-19307 Filed 7-28-11; 8:45 am]

BILLING CODE 6450-01-P